DEPARTMENT OF AGRICULTURE

Office of Partnerships and Public Engagement

Advisory Committee on Minority Farmers

AGENCY: Office of Partnerships and Public Engagement, USDA.

ACTION: Notice of cancellation for the Advisory Committee for Minority Farmers public meeting.

SUMMARY: Pursuant to the Federal Advisory Committee Act (FACA), the Office of Partnerships and Public Engagement (OPPE) is announcing a cancellation of the Advisory Committee on Minority Farmers (ACMF) public meeting. The notice for the ACMF public meeting was published under FR Doc. 2022-28237 Filed 12-27-22. The meeting was scheduled for January 18-20, 2023. We will publish the new date once the meeting has been rescheduled. The OPPE is cancelling the in-person (face-to-face) meeting out of concern for the safety of the public due to adverse weather conditions. As a result, ample time was not allowed for the notice to be published in the Federal Register to cancel at least 15 days before the date of the meeting.

FOR FURTHER INFORMATION CONTACT: General information about the committee can also be found at https://www.usda.gov/partnerships/advisory-committee-on-minority-farmers. Any member of the public wishing to obtain information concerning this advisory committee may contact Mr. Eston Williams, Designated Federal Officer (DFO) via email Eston.Williams@usda.gov or call (202) 596-0226.

SUPPLEMENTARY INFORMATION: The Committee was established pursuant to section 14008 of the Food Conservation and Energy Act of 2008, Public Law 110-246, 122 Stat. 1651, 2008 (7 U.S.C. 2279), to ensure that socially disadvantaged farmers have equal access to USDA programs. The Secretary selected a diverse group of members representing a broad spectrum of persons chosen to recommend solutions to the challenges of minority farmers and ranchers, generally. The members also advise the Secretary on implementation of section 2501 of the Food, Agriculture, Conservation, and Trade Act of 1990 (the 2501 Program); maximizing the participation of minority farmers and ranchers in USDA programs; and civil rights activities within the Department relative to participants in its programs.

Dated: January 10, 2023.
Cikena Reid,
USDA Committee Management Officer.

[FR Doc. 2023-00650 Filed 1-13-23; 8:45 am]

BILLING CODE 3412-88-P